DEPARTMENT OF EDUCATION

[CFDA Nos. 84.031A, 84.031T, 84.031N, and 84.031W]

Strengthening Institutions, American Indian Tribally Controlled Colleges and Universities and Alaska Native and Native Hawaiian-Serving Institutions Programs

ACTION: Correction.

SUPPLEMENTARY INFORMATION: On May 19, 2006, we published a notice in the Federal Register (71 FR 29130) inviting applications for new awards for fiscal year (FY) 2006 for the Strengthening Institutions, American Indian Tribally Controlled Colleges and Universities and Alaska Native and Native Hawaiian-Serving Institutions programs. On page 29131 of that notice, we included charts listing the maximum award amounts, the estimated number of awards and the estimated average size of awards for the FY 2006 competitions for these programs. The charts incorrectly identified the Catalog of Federal Domestic Assistance (CFDA) number for the Strengthening Institutions program as “83.031A.” This notice corrects that error.

The CFDA number listed for the Strengthening Institutions program in the charts on page 29131 is corrected to read “84.031A.”

FOR FURTHER INFORMATION CONTACT: Dr. Maria E. Carrington, or Karen W. Johnson, U.S. Department of Education, 1990 K Street, NW., 6th Floor, Washington, DC 20006-8513. Telephone: (202) 502-7777 or by e-mail: maria.Carrington@ed.gov or karen.Johnson@ed.gov.

If you use a telecommunications device for the deaf (TDD), you may call the Federal Relay Service (FRS) at 1-800-877-8339.

Individuals with disabilities may obtain this document in an alternative format (e.g., Braille, large print, audiotape, or computer diskette) on request to the program contact person listed under FOR FURTHER INFORMATION CONTACT.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 27, 2006.
James F. Manning,
Acting Assistant Secretary for Postsecondary Education.

[FR Doc. 06-5901 Filed 6-29-06; 8:45 am]

BILLING CODE 4000-01-P